Title 3—

The President

Proclamation 8658 of April 27, 2011

Workers Memorial Day, 2011

By the President of the United States of America

A Proclamation

Every year in America, nearly four million workers suffer an occupational injury or illness, and thousands die from work-related injuries. These preventable tragedies disable workers, devastate families, and erode our economy. On Workers Memorial Day, we celebrate the improvements in American workplaces and remember those who have been injured, sickened, or killed on the job. This year, we also recognize the 40th anniversary of the Occupational Safety and Health Administration, and we pay tribute to all those who have dedicated their lives to ensuring safety in the workplace.

The protections working Americans enjoy today were not easily gained. They had to be won by generations of courageous men and women, fighting to secure decent working conditions, standing up for those most vulnerable, and sometimes risking their own economic security and lives. One century ago in New York City, nearly 150 young garment workers either burned or jumped to their deaths when a fire ignited in the Triangle Shirtwaist Factory. This senseless tragedy inspired a movement, calling Americans to pay attention to workplace conditions and bestowing a new relevance on the importance of unions. Organized labor has continued to give voice to millions of working men and women by representing their views and fighting for good working conditions and fair wages.

Until 1970, many Americans still did not have the legal right to a safe workplace, and many employers were not legally obligated to control hazards. The Federal Coal Mine Health and Safety Act of 1969 and the Occupational Safety and Health Act of 1970 fundamentally changed American workplaces. These laws provided workers the right to safe and healthy workplaces, ensured workers were protected from dangerous conditions, and provided protections to employees who reported safety and health hazards.

In the four decades since those landmark laws were enacted, we have seen great progress in conditions for working Americans. Federal agencies are helping reduce workplace injury rates and control exposure to deadly hazards by using research on injury and illness causation, implementing common sense standards, and promoting cooperative programs. The Department of Labor is continuing to enforce and improve our workplace safety regulations and is partnering with the Department of Justice to make sure the full force of the law is brought to bear in cases where workers are put in harm’s way. Many of our Nation’s employers have embraced exemplary worker injury and illness prevention programs—efforts that exceed Federal safety and health standards. Together, these improvements have fostered innovation, increased productivity, and bolstered competitiveness while saving countless lives in the process.

On Workers Memorial Day, we reflect on the vital achievements of the past and recommit to keeping all workers safe and healthy in the future. We owe nothing less to the countless working Americans who have built and shaped our Nation, and to those who have lost their lives or been injured on the job.

NOW, THEREFORE, I, BARACK OBAMA, President of the United States of America, by virtue of the authority vested in me by the Constitution and the laws of the United States, do hereby proclaim April 28, 2011, as Workers Memorial Day. I call upon all Americans to participate in ceremonies and activities in memory of those killed or injured due to unsafe working conditions.

IN WITNESS WHEREOF, I have hereunto set my hand this twenty-seventh day of April, in the year of our Lord two thousand eleven, and of the Independence of the United States of America the two hundred and thirty-fifth.

[FR Doc. 2011-10811

Filed 4-29-11; 11:15 am]

Billing code 3195-W1-P